DEPARTMENT OF ENERGY

Federal Energy Regulatory Commission

[Docket No. EC03-91-000, et al.]

Flying Cloud Power Partners, LLC, et al.; Electric Rate and Corporate Filings

May 21, 2003.

The following filings have been made with the Commission. The filings are listed in ascending order within each docket classification.

1. Flying Cloud Power Partners, LLC, Heartland Wind LLC, Clipper Windpower Development, Company, Inc.

[Docket No. EC03-91-000]

Take notice that on May 15, 2003, Flying Cloud Power Partners, LLC (Flying Cloud), Heartland Wind LLC (Heartland Wind), and Clipper Windpower Development Company, Inc. (Clipper Development) (collectively Applicants) filed with the Federal Energy Regulatory Commission (Commission) an application pursuant to Section 203 of the Federal Power Act and part 33 of the Commission's regulations for authorization of a disposition of jurisdictional facilities (the Application). Applicants state that they seek Commission authorization in connection with the transfer of 100 percent of the stock of Flying Cloud from Clipper Development to Heartland Wind. Applicants state that they are engaged in the business of developing, and will construct, own and operate, a 43.5 MW wind power generation facility located in Dickinson County, Iowa. Applicants further state that their jurisdictional assets are assumed, for purposes of the Application, to include rate schedules, a wholesale power purchase agreement, an interconnection agreement, and other assets that are necessary to effectuate wholesale sales of electricity. Applicants also request confidential treatment of certain documents submitted therewith.

Comment Date: June 5, 2003.

2. Allegheny Energy Supply Company, LLC, Constellation Power Source, Inc.

[Docket No. EC03-92-000]

Take notice that on May 15, 2003, Allegheny Energy Supply Company, LLC (AE Supply) and Constellation Power Source, Inc. (CPSI) (together, the Applicants) filed a joint application for disposition of jurisdictional facilities under Section 203 of the Federal Power Act. The Applicants request Commission approval for AE Supply to transfer and assign to CPSI a wholesale power sales contract.

Comment Date: June 5, 2003.

3. Rumford Power Associates, Limited Partnership

[Docket No. ER00-2080-001]

Take notice that on May 19, 2003, Rumford Power Associates Limited Partnership submitted for filing its triennial market analysis update in compliance with the Commission Order issued in Docket No. ER00-2080-000 on May 17, 2000.

Comment Date: June 9, 2003.

4. Virginia Electric and Power Company

[Docket No. ER03-159-003]

Take notice that on May 19, 2003, Virginia Electric and Power Company (Dominion Virginia Power) tendered for filing a substitute revised service agreement in compliance with the Commission's May 2, 2003 order in Docket No. ER03-159-000, et al. Dominion Virginia Power states that the substitute revised service agreement removes language from the Master Power Purchase and Sale Agreement between the Company and Dominion Retail as filed on November 5, 2000, consistent with the Commission's instructions, and also includes a technical change. Dominion Virginia Power indicates that the service agreement provides for sales of capacity and energy under Dominion Virginia Power's cost-based power sales tariff, FERC Electric Tariff No. 7, to its affiliate, Dominion Retail, Inc.

Dominion Virginia Power states that copies of the filing were served on the Virginia State Corporation Commission.

Comment Date: June 9, 2003.

5. ISG Sparrows Point Inc.

[Docket No. ER03-852-000]

Take notice that on May 19, 2003, ISG Sparrows Point Inc., (ISG Sparrows Point) submitted to the Commission a Notice of Succession notifying the Commission that it has succeeded to the Rate Schedule FERC No. 2 of Bethlehem Steel Corp (Rate Schedule). ISG Sparrows Point states that it filed the Rate Schedule, updated as appropriate and is in conformance with Commission Order No. 614, as IGS Sparrows Point Rate Schedule FERC No. 2.

Comment Date: June 9, 2003.

6. Dominion Retail, Inc.

[Docket No. ER03-853-000]

Take notice that on May 19, 2003, Dominion Retail, Inc., tendered for filing proposed FERC Electric Tariff No. 1, a wholesale cost-based rate tariff, together with a pro-forma service agreement under that Tariff, for wholesale sales of capacity and energy. Dominion Retail asks that the proposed Tariff be made effective sixty (60) days after the date of its filing.

Comment Date: June 9, 2003.

7. Deseret Generation & Transmission Co-operative, Inc.

[Docket No. ER03-856-000]

Take notice that on May 19, 2003, Deseret Generation & Transmission Co-operative, Inc., submitted an informational filing, providing the exact amount paid as a 2002 Rate Rebate to each of its six member cooperatives under Service Agreement Nos. 1 through 6 of FERC Electric Tariff, Original Volume No. 1.

Comment Date: June 9, 2003.

8. Consumers Energy Company

[Docket No. ES03-37-001]

Take notice that on May 15, 2003, Consumers Energy Company (Consumers) submitted an amendment to its original proceeding, under section 204 of the Federal Power Act. In the amendment, Consumers provides additional information required by the Commission's regulations that was omitted in the original proceeding.

Comment Date: June 6, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number field to access the document. For assistance, please contact FERC Online Support at FERCOnlineSupport@ferc.gov or toll-free at (866) 208-3676, or for TTY, contact (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-13482 Filed 5-29-03; 8:45 am]

BILLING CODE 6717-01-P